DEPARTMENT OF COMMERCE

Submission for OMB Review; Comment Request

DOC will submit to the Office of Management and Budget (OMB) for clearance the following proposal for collection of information under the provisions of the Paperwork Reduction Act (44 U.S.C. chapter 35).

Agency: U.S. Census Bureau.

Title: Service Annual Survey.

Form Number(s): Too numerous to list here (77 unique forms).

Agency Approval Number: 0607-0422.

Type of Request: Revision of a currently approved collection.

Burden: 208,941 hours.

Number of Respondents: 57,652.

Avg. Hours per Response: 3 hours and 37 minutes.

Needs and Uses: Today, over 50 percent of all economic activity is accounted for by services that are narrowly defined to exclude retail and wholesale trade. The U.S. Census Bureau currently measures the total output of most of these service industries annually in its Service Annual Survey (SAS). This survey covers all or some of the following nine sectors: Transportation and Warehousing; Information; Finance and Insurance; Real Estate and Rental and Leasing; Professional, Scientific, and Technical Services; Administration and Support and Waste Management and Remediation Services; Health Care and Social Assistance; Arts, Entertainment, and Recreation; and Other Services.

Data from the SAS are essential to a better understanding and higher quality estimates of economic growth, real output, prices, and productivity for our nation's economy. A broad spectrum of government and private stakeholders use these data in analyzing business and economic sectors; developing statistics on services; forecasting economic growth; and compiling data on productivity, prices and gross domestic product (GDP). In addition, trade and professional organizations use these data to analyze industry trends, benchmark their own statistical programs and develop forecasts. Private businesses use these data to measure market share, analyze business potential and plan investments. Comprehensive, comparative annual data on the services sector are not available from any other source.

In addition to the general expense detail items that the SAS collects annually, the SAS will expand to collect additional detailed expense items in the 2007 survey year to replace the Business Expenses Survey (BES) for the industries that are currently covered by the SAS. In the 2008 survey year, the SAS will collect the same expense detail items as were collected in the 2006 survey year.

As is done every year before the Economic Census, the SAS will collect sales tax data in the 2006 survey year.

In order to reduce the number of the SAS forms, the SAS will combine generic forms at the sector level and will no longer have different forms for company level reporting units and Employer Identification Number (EIN) reporting units or taxable and tax-exempt firms. These changes will decrease the number of SAS forms from 272 to 77 unique forms.

The availability of these data will greatly improve the quality of the intermediate-inputs and value-added estimates in BEA's annual input-output and GDP by industry accounts.

The data produced in the SAS are critical to the accurate measurement of total economic activity.

The Bureau of Economic Analysis (BEA), the primary Federal user, uses the information to develop the national income and product accounts, compile benchmark and annual input-output tables, and compute GDP by industry. Agencies of the U.S. Department of Transportation (DOT) use the data for policy development and program management and evaluation. The Bureau of Labor Statistics (BLS) uses these data as inputs to its Producer Price Indexes and in developing productivity measurements. The Centers for Medicare and Medicaid Services (CMS) use the data for program planning and development of the National Health Expenditure Accounts. The Federal Communications Commission (FCC) uses these data to assess the impact of regulatory policies. International agencies use the data to compare total domestic output to changing international activity. Private industry also uses these data as a tool for marketing analysis.

Affected Public: Business or other for-profit, Not-for-profit institutions.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 24, 2006.
Madeleine Clayton,
Management Analyst, Office of the Chief Information Officer.

[FR Doc. E6-14355 Filed 8-29-06; 8:45 am]

BILLING CODE 3510-07-P